DEPARTMENT OF TRANSPORTATION

Federal Aviation Administration

14 CFR Part 39

[Docket No. FAA-2015-3877; Directorate Identifier 2015-SW-039-AD; Amendment 39-18284; AD 2015-18-51]

RIN 2120-AA64

Airworthiness Directives; Airbus Helicopters

AGENCY: Federal Aviation Administration (FAA), Department of Transportation (DOT).

ACTION: Final rule; request for comments.

SUMMARY: We are publishing a new airworthiness directive (AD) for Airbus Helicopters Model AS332C, AS332C1, AS332L, and AS332L1 helicopters, which was sent previously to all known U.S. owners and operators of these helicopters. This AD requires inspecting certain tail rotor (T/R) blades, replacing the set of T/R blades if there is damage, deactivating the rotor de-icing system, revising the rotorcraft flight manual (RFM), and installing a placard. This AD is prompted by a report of a T/R de-icing system power supply box stuck in a “closed” position providing an uncontrolled and un-annunciated power supply to the system. These actions are intended to detect and prevent structural damage to the T/R blades caused by overheating, and subsequent loss of control of the helicopter.

DATES: This AD becomes effective October 20, 2015 to all persons except those persons to whom it was made immediately effective by Emergency AD 2015-18-51, issued on September 11, 2015, which contains the requirements of this AD.

We must receive comments on this AD by December 4, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-3877; or in person at the Docket Operations Office between 9 a.m. and 5 p.m., Monday through Friday, except Federal holidays. The AD docket contains this AD, the European Aviation Safety Agency (EASA) AD, the economic evaluation, any comments received, and other information. The street address for the Docket Operations Office (telephone 800-647-5527) is in the ADDRESSES section. Comments will be available in the AD docket shortly after receipt.

For service information identified in this AD, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

FOR FURTHER INFORMATION CONTACT: George Schwab, Aviation Safety Engineer, Safety Management Group, Rotorcraft Directorate, FAA, 10101 Hillwood Pkwy., Fort Worth, TX 76177; telephone (817) 222-5110; email george.schwab@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On September 11, 2015, we issued Emergency AD 2015-18-51 to correct an unsafe condition for Airbus Helicopters Model AS332C, AS332C1, AS332L, and AS332L1 helicopters with T/R de-icing installation unit part number (P/N) 204ZP01Y01 and T/R blade P/N 332A12-0055-XX (where XX is any dash number) installed. Emergency AD 2015-18-51 requires inspecting each T/R blade, replacing the set of T/R blades if there is damage, deactivating the rotor de-icing system, revising the RFM, and installing a placard. Emergency AD 2015-18-51 was sent previously to all known U.S. owners and operators of these helicopters and was prompted by a report of a T/R de-icing system power supply box stuck in a “closed” position providing an uncontrolled and un-annunciated power supply to the system. The T/R de-icing system is part of the entire rotor de-icing system.

Emergency AD 2015-18-51 was prompted by AD No. 2015-0153-E, dated July 24, 2015, issued by EASA, which is the Technical Agent for the Member States of the European Union, to correct an unsafe condition for Airbus Helicopters Model AS332 C, AS332C1, AS332L, and AS332L1 helicopters, equipped with T/R de-icing installation unit P/N 204ZP01Y01 and T/R blade P/N 332A12-0055-XX (where XX represents any dash number). EASA advises of a report of a T/R blade that was overheated and damaged after application of alternating current (AC) from a ground power unit (GPU) following a flight during which the de-icing system was used. Subsequent analysis determined failure of the power supply box stuck in the “closed” position caused the uncontrolled power supply to the rotor blade de-icing system and subsequent damage. EASA also states that its AD is considered an interim action and further AD action may follow.

FAA's Determination

These helicopters have been approved by the aviation authority of France and are approved for operation in the United States. Pursuant to our bilateral agreement with France, EASA, its technical representative, has notified us of the unsafe condition described in the EASA AD. We are issuing this AD because we evaluated all information provided by the EASA and determined the unsafe condition exists and is likely to exist or develop on other helicopters of these same type designs.

Related Service Information

Airbus Helicopters issued Alert Service Bulletin No. AS332-05.01.02, Revision 0, dated July 22, 2015 (ASB), which specifies, before each flight and before starting at least one engine, if the applicable helicopter has been supplied external 115V/400Hz AC GPU with the rotor stationary or if the de-icing system has been used or tested using an AC GPU with the rotor stationary or spinning, visually inspecting the T/R blades for burn marks, detached leading edge protection, or cracks at the skin/leading edge protection junction. If at least one T/R blade is damaged, the ASB specifies replacing all of the T/R blades.

AD Requirements

This AD requires, before further flight, inspecting each T/R blade for a burn mark, any disbonding of the leading edge protection, and a crack at the junction of the skin and the leading edge protection. If there is a burn mark, any disbonding of the leading edge protection, or a crack at the junction of the skin and the leading edge protection on a T/R blade, this AD requires replacing all of the T/R blades with airworthy T/R blades. This AD also requires deactivating the rotor de-icing system, revising the RFM to state that the rotor de-icing system is deactivated and that flight into known icing is prohibited, and installing a placard stating that the rotor de-icing system is deactivated.

Differences Between This AD and the EASA AD

The EASA AD allows operation of the rotor de-icing system with a recurring inspection of the T/R blades. This AD requires an initial inspection and prohibits operation of the rotor de-icing system by deactivating the rotor de-icing system, revising the RFM to state the rotor de-icing system is deactivated and flight into known icing is prohibited, and installing a placard stating that the rotor de-icing system is deactivated.

Interim Action

We consider this AD to be an interim action. Once a modification to the rotor de-icing system design is evaluated, approved, and available, we might consider additional rulemaking.

Costs of Compliance

We estimate that this AD affects 19 helicopters of U.S. Registry. We estimate that operators may incur the following costs in order to comply with this AD at an average labor rate of $85 per work-hour. It takes about 1 work-hour to inspect the T/R blades for a cost of $85 per helicopter and $1,615 for the U.S. fleet. It takes about 2 work-hours to deactivate the rotor de-icing system for a cost of $170 per helicopter and $3,230 for the U.S. fleet. It takes about 0.5 work-hour to revise the RFM for a cost of $43 per helicopter and $817 for the U.S. fleet. It takes about 0.5 work-hour and a negligible parts cost to install a placard for a cost of $43 per helicopter and $817 for the U.S. fleet. Replacing a set of T/R blades takes about 3 work-hours for a labor cost of $255 per helicopter. Parts for 4-blade T/R set cost $167,644 for a total replacement cost of $167,899 per helicopter. Parts for a 5-blade T/R set cost $209,555 for a total replacement cost of $209,810 per helicopter.

FAA's Justification and Determination of the Effective Date

Providing an opportunity for public comments prior to adopting these AD requirements would delay implementing the safety actions needed to correct this known unsafe condition. Therefore, we found and continue to find that the risk to the flying public justifies waiving notice and comment prior to the adoption of this rule because the previously described unsafe condition can adversely affect the controllability of the helicopter and the initial required action must be accomplished before further flight.

Since it was found that immediate corrective action was required, notice and opportunity for prior public comment before issuing this AD were impracticable and contrary to public interest and good cause existed to make the AD effective immediately by Emergency AD 2015-18-51, issued on September 11, 2015, to all known U.S. owners and operators of these helicopters. These conditions still exist and the AD is hereby published in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-18-51 Airbus Helicopters: Amendment 39-18284; Docket No. FAA-2015-3877; Directorate Identifier 2015-SW-039-AD.

(a) Applicability

This AD applies to Airbus Helicopters Model AS332C, AS332C1, AS332L, and AS332L1 helicopters with tail rotor (T/R) de-icing installation unit part number (P/N) 204ZP01Y01 and T/R blade P/N 332A12-0055-XX (where XX is any dash number) installed, certificated in any category.

(b) Unsafe Condition

This AD defines the unsafe condition as uncontrolled and un-annunciated power supply to the T/R de-icing system, which could overheat the T/R blades. This condition could result in structural damage to the T/R blades and subsequent loss of control of the helicopter.

(c) Effective Date

This AD becomes effective October 20, 2015 to all persons except those persons to whom it was made immediately effective by Emergency AD 2015-18-51, issued on September 11, 2015, which contains the requirements of this AD.

(d) Compliance

You are responsible for performing each action required by this AD within the specified compliance time unless it has already been accomplished prior to that time.

(e) Required Actions

Before further flight:

(1) Inspect each T/R blade for a burn mark, any disbonding of the leading edge protection, and a crack at the junction of the skin and the leading edge protection. Examples of a burn mark, disbonding, and a crack are shown in the photos under paragraph 3.B.2., Accomplishment Instructions, of Airbus Helicopters Alert Service Bulletin No. AS332-05.01.02, Revision 0, dated July 22, 2015. If there is a burn mark, any disbonding of the leading edge protection, or a crack at the junction of the skin and the leading edge protection on a T/R blade, replace all of the T/R blades with airworthy T/R blades.

(2) Deactivate the rotor de-icing system.

(3) Revise Section 2, Limitations, of the Protective Equipment for Flight in Icing Conditions supplement to the rotorcraft flight manual by inserting the following: ROTOR DE-ICING SYSTEM IS DEACTIVATED. FLIGHT INTO KNOWN ICING IS PROHIBITED.

(4) Install a placard with 6 millimeter red letters on a white background next to the rotors de-icing control panel that states the following: ROTOR DE-ICING SYSTEM IS DEACTIVATED.

(f) Special Flight Permits

Special flight permits will be permitted for flights to a location where the required inspection can be performed provided the flight does not exceed 5 hours time-in-service.

(g) Alternative Methods of Compliance (AMOCs)

(1) The Manager, Safety Management Group, FAA, may approve AMOCs for this AD. Send your proposal to: George Schwab, Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Airbus Helicopters Alert Service Bulletin No. AS332-05.01.02, Revision 0, dated July 22, 2015, which is not incorporated by reference, contains additional information about the subject of this AD. For service information identified in this AD, contact Airbus Helicopters, 2701 N. Forum Drive, Grand Prairie, TX 75052; telephone (972) 641-0000 or (800) 232-0323; fax (972) 641-3775; or at http://www.airbushelicopters.com/techpub. You may review a copy of the service information at the FAA, Office of the Regional Counsel, Southwest Region, 10101 Hillwood Pkwy., Room 6N-321, Fort Worth, TX 76177.

(2) The subject of this AD is addressed in European Aviation Safety Agency (EASA) AD No. 2015-0153-E, dated July 24, 2015. You may view the EASA AD on the Internet at http://www.regulations.gov by searching for and locating it in Docket No. FAA-2015-3877.

(i) Subject

Joint Aircraft Service Component (JASC) Code: 3060, Rotor De-Ice System.

Issued in Fort Worth, Texas, on September 28, 2015.
Lance T. Gant,
Acting Directorate Manager, Rotorcraft Directorate, Aircraft Certification Service.

[FR Doc. 2015-25217 Filed 10-2-15; 8:45 am]

BILLING CODE 4910-13-P